DEPARTMENT OF AGRICULTURE

Forest Service

Final Record of Decision for the Carson National Forest

AGENCY: Forest Service, Agriculture (USDA).

ACTION: Notice of approval of the Revised Land Management Plan for the Carson National Forest.

SUMMARY: James Duran, the Forest Supervisor for the Carson National Forest, Southwestern Region, signed the final record of decision (ROD) for the Revised Land Management Plan (LMP) for the Carson National Forest Land. The final ROD documents the rationale for approving the LMP and is consistent with the Reviewing Officer's responses to objections and instructions.

DATES: The revised LMP for the Carson National Forest will become effective 30 days after the publication of this notice of approval in the Federal Register (36 CFR 219.17(a)(1)).

ADDRESSES: To view the signed final ROD, final environmental impact statement (FEIS), the revised LMP, and other related documents, please visit the Carson National Forest website at: https://www.fs.usda.gov/detail/carson/landmanagement/planning/?cid=stelprdb5443166.

A legal notice of approval is also being published in the newspaper of record, The Taos News. A copy of this legal notice will be posted on the Carson National Forest's website shown above.

FOR FURTHER INFORMATION CONTACT: Peter Rich, Forest Planner, Carson National Forest, at peter.rich@usda.gov or 575-758-6277.

Individuals who use telecommunication devices for the deaf and hard of hearing (TDD) may call the Federal Relay Service (FRS) at 1-800-877-8339, 24 hours a day, every day of the year, including holidays. Written requests for information may be sent to Carson National Forest, Attn: Carson National Forest Plan Revision, 208 Cruz Alta Rd., Taos, NM 87571.

SUPPLEMENTARY INFORMATION: The Carson National Forest covers six ranger districts across nearly 1.5 million acres of National Forest System land in the northern New Mexico counties of Taos, Rio Arriba, Colfax, and Mora. The LMP was developed pursuant to the 2012 Forest Service Planning Rule (36 CFR 219) and will replace the 1986 Land Management Plan. The LMP describes desired conditions, objectives, standards, guidelines, and land suitability for project and activity decision-making and will guide all resource management activities on the Forest. The Carson National Forest plays an important role supporting and partnering with communities in northern New Mexico and throughout the southwestern United States by providing economic benefits including fuelwood gathering, livestock grazing, and abundant recreational opportunities. The development of the LMP was shaped by the best available scientific information, current laws, and public input.

The Carson National Forest initiated plan revision in 2014 and engaged the public frequently throughout the process. This engagement effort has included conventional public meetings, information sharing via social media, and collaborative work sessions with cooperating agencies. The Forest invited State, local and Tribal governments, and other federal agencies from around the region to participate in the process to revise the LMP. The Carson National Forest engaged in government-to-government consultation with 16 tribes during LMP revision, ensuring tribal-related plan direction accurately reflects the Carson National Forest's trust responsibilities and government-to-government relationship with tribes. A cooperating agency working group met regularly throughout the plan revision effort. During the 90-day comment period in 2019 for the draft LMP and draft EIS, the Carson National Forest received 5,740 letters, which helped refine the preferred alternative and augment plan content based on response to comments.

A draft ROD, LMP, and FEIS were released in September 2021, initiating a 60-day objection filing period that closed November 2, 2021. The Carson National Forest received 16 eligible objections. Through a comprehensive review of each objection, a variety of issues were identified. Following the objection review, the Reviewing Officer held objection resolution meetings with objectors and interested persons. Based on these meetings, the Reviewing Officer issued a written response on May 24, 2022. The instructions from the Reviewing Officer were addressed in the final ROD, LMP, and FEIS.

Responsible Official

The Responsible Official for approving the LMP is James Duran, Forest Supervisor, Carson National Forest. The Responsible Official approving the list of species of conservation concern is Michiko Martin, Regional Forester, Southwestern Region.

Dated: June 30, 2022.
Deborah Hollen,
Acting Associate Deputy Chief, National Forest System.

[FR Doc. 2022-14535 Filed 7-7-22; 8:45 am]

BILLING CODE 3411-15-P